DEPARTMENT OF THE INTERIOR

National Park Service

Adoption of Proposed Leasing Regulations/Guidelines for the El Portal Administrative Site Yosemite National Park, Mariposa County, CA; Request for Public Comment

SUMMARY: The National Park Service is responsible for the management and administration of the El Portal Administrative Site. To facilitate these activities the Superintendent of Yosemite National Park, acting on behalf of the Secretary of the Interior, has been authorized to issue leases for lands within the Administrative Site subject to terms, conditions, and guidelines as are appropriate to assure the proper administration, protection, and development of the site. The adoption proposed will establish the qualifications of persons and corporations who may be eligible to acquire a lease, the process used to establish lease fees, and the circumstances under which the Superintendent of Yosemite National Park may acquire unexpired leases.

Background

Sections 47-1 through 47-6 of Title 16, United States Code, govern the Superintendent's management and administration of the El Portal Administrative Site (“Site”). Section 47-1 states that in order “to preserve the extraordinary natural qualities of Yosemite National Park”, the Superintendent is authorized to manage the Site such that “utilities, facilities, and services required in the operation and administration of Yosemite National Park may be located on such site outside the Park.” To effectuate this goal, the Superintendent has been authorized under Section 47-2 to issue leases directly or through a Contract Lease Manager subject to such terms, conditions, and guidelines as are appropriate to assure proper administration, protection, and development of the Site and the Park.

Before leases can be issued, however, the Superintendent must prepare suitable guidance regarding the issuance and management of leases. Section 47-5 states: “Such regulations shall establish the qualifications of natural persons and corporations who may be eligible to acquire a lease and a sublease, the process to be used in establishing fees for such leases and subleases, and they shall set forth the circumstances under which the Secretary may elect to acquire any unexpired lease or sublease.” Thus established is a guiding framework for the residential and commercial leasing of government-owned lands and structures within the Site. Also provided thereby is program funding, by establishing a Fair Rental Value for leased property, and means to determine an appropriate Permit Fee for permitted property within the El Portal Administrative Site. Funds collected will be used as directed in 16 U.S.C. 47-3.

FOR FURTHER INFORMATION CONTACT: The Office of Special Park Uses, P.O. Box 700, El Portal, California 95318, (209) 379-9238.

Reference: Public Law 85-922 of September 2, 1958, Public Law 90-409 of July 21, 1968 and Public Law 99-542 of October 27, 1986, as codified in Title 16, United States Code, Sections 47-1 through 47-6.

Comments: Written comments must be postmarked not later than April 25, 2000. Requests for a copy of the proposed leasing program, or written comments, should be addressed to: Superintendent, Yosemite National Park, c/o Office of Special Park Uses, P.O. Box 700, El Portal, California 95318.

Please confine written comments to issues or concerns pertinent to the proposal and explain the reasons for any recommended changes. Where possible, reference the specific section or paragraph subject to comment. If individuals submitting comments request that their name or/and address be withheld from public disclosure, it will be honored to the extent allowable by law. Such requests must be stated prominently at the beginning of the comments. There also may be circumstances wherein the NPS will withhold a respondent's identity as allowable by law. As always: NPS will make available to public inspection all submissions from organizations or businesses and from persons identifying themselves as representatives or officials of organizations and businesses; and, anonymous comments may not be considered. The public may inspect comments received on this proposal in the Office of Special Park Uses, between the hours of 8:00 a.m. and 4:30 p.m. on business days.

Dated: February 17, 2000.
James R. Shevock,
Acting Regional Director, Pacific West Region.

[FR Doc. 00-4633 Filed 2-25-00; 8:45 am]

BILLING CODE 4310-70-P